SMALL BUSINESS ADMINISTRATION

[Declaration of Economic Injury Disaster #9Q13]

State of Washington; Disaster Loan Areas

San Juan County in the State of Washington constitutes an economic injury disaster area as a result of a fire in downtown Friday Harbor on May 9, 2002. Eligible small businesses and small agricultural cooperatives without credit available elsewhere may file applications for economic injury assistance for this disaster until the close of business on March 14, 2003 at the address listed below or other locally announced locations: U.S. Small Business Administration, Disaster Area 4 Office, P.O. Box 13795, Sacramento, CA 95853-4795.

The interest rate for eligible small businesses and small agricultural cooperatives is 3.5 percent.

The number assigned for economic injury for this disaster is 9Q1300.

(Catalog of Federal Domestic Assistance Program No. 59002)
Dated: June 14, 2002.
Hector V. Barreto,
Administrator.

[FR Doc. 02-15813 Filed 6-21-02; 8:45 am]

BILLING CODE 8025-01-P